DEPARTMENT OF HEALTH AND HUMAN SERVICES

Administration for Children and Families

45 CFR Part 303

Standards for Program Operations

CFR Correction

In Title 45 of the Code of Federal Regulations, parts 200 to 499, revised as of Oct. 1, 2002, on page 260, § 303.108, paragraph (c), is corrected by removing the phrase “Secretary of the U.S. Treasury” and adding in its place the word “first”.

[FR Doc. 03-55530 Filed 10-28-03; 8:45 am]

BILLING CODE 1505-01-D